EXPORT-IMPORT BANK OF THE UNITED STATES

Draft Guidelines for Ensuring and Maximizing the Quality, Objectivity, Utility and Integrity of Information Disseminated to the Public by the Export-Import Bank of the U.S. (Ex-Im Bank)

AGENCY: Export-Import Bank of the United States (Ex-Im Bank).

ACTION: Notice of draft guidelines.

SUMMARY: The Export-Import Bank (Ex-Im Bank) is seeking comments on the draft Information Quality Guidelines that follow.

ADDRESSES: Export-Import Bank of the United States, 811 Vermont Avenue, NW., Washington, DC 20571.

FOR FURTHER INFORMATION CONTACT: Kalesha Malloy, Office of the Chief Information Officer Information Management & Technology Group, 811 Vermont Avenue, NW., Room 763, Washington DC 20571; by e-mail at kalesha.malloy@exim.gov, by phone at (202) 565-3857; or by fax at (202) 565-3424.

DATES: Comments should be received on or before August 16, 2002.

SUPPLEMENTARY INFORMATION:

Dated: July 29, 2002.
Carlista D. Robinson,
Agency Clearance Officer.

Introduction and Purpose

The Export-Import Bank (Ex-Im Bank) is seeking comments on the draft Information Quality Guidelines that follow. These draft Information Quality Guidelines describe Ex-Im Bank's pre-dissemination information publicly disseminated by Ex-Im Bank. Ex-Im Bank will post its draft Information Quality Guidelines on its Web site at htlp://www.exim.gov/omb/dataquality.doc and encourages public comment on the report. Please submit comments to Kalesha Malloy, Office of the Chief Information Officer, Information Management & Technology Group, 811 Vermont Ave, NW., Room 763, Washington, DC 20571, by phone at (202) 565-3857, by e-mail at kalesha.malloy@exim.gov or by fax at (202) 565-3424. Comments should be received on or before August 16, 2002.

These guidelines are drafted in accordance with “Guidelines for Ensuring and Maximizing the Quality, Objectivity, Utility, and Integrity of Information Disseminated by Federal Agencies” (“Agency-wide guidelines”) published by the Office of Management and Budget (“OMB) in 66 FR 49718 on Friday, September 28, 2001, updated in 67 FR 369 on Thursday, January 3, 2002 and corrected in 67 FR 8452 on February 22, 2002. These published guidelines were issued pursuant to Section 515 of the Treasury and General Government Appropriations Act for FY2001 (Public Law 106-554). In accordance with these provisions, each Federal Agency is obligated to:

1. Issue their own information quality guidelines ensuring and maximizing the quality, objectivity, utility, and integrity of information, including statistical information, disseminated by the agency no later than October 1, 2002;

2. Establish administrative mechanisms allowing affected persons to seek and obtain correction of information maintained and disseminated by the agency that does not comply with these OMB guidelines; and

3. Report annually to the Director of OMB, beginning January 1, 2004, the number and nature of complaints received by the agency regarding agency compliance with these OMB guidelines concerning the quality, objectivity, utility, and integrity of information and how such complaints were resolved.

Consistent with the Agency-wide Guidelines, Ex-Im Bank's draft guidelines rely on its existing practices, to the extent they are consistent with the recently published guidelines, while adopting a new administrative mechanism to satisfy the new procedural requirements. Ex-Im Bank's guidelines reflect its internal procedures for reviewing and substantiating information to maximize quality, including the objectivity, utility, and integrity of information, before it is disseminated. The administrative mechanism allows affected persons to seek and obtain, where appropriate correction of information disseminated by Ex-Im Bank that does not comply with these guidelines or with the Agency-wide Guidelines.

Ex-Im Banks draft guidelines follow:

Background

Ex-Im Bank publishes these guidelines in accordance with the Guidelines for Ensuring and Maximizing the Quality, Objectivity, Utility, and Integrity of Information Disseminated by Federal Agencies (Agency-wide guidelines) published by the Office of Management and Budget in 66 FR 49718 on Friday, September 28, 2001, updated in 67 FR 369 on Thursday, January 3, 2002 and corrected in 67 FR 8452 on February 22, 2002. These published guidelines were issued pursuant to Section 515 of the Paperwork Reduction Act (44 U.S.C. 3502(1) et seq.) In response to the legislation and the published guidelines, Ex-Im Bank identifies the following policies and procedures for ensuring and maximizing the quality, objectivity, utility, and integrity of information disseminated by Ex-Im Bank; and it hereby establishes additional procedures for affected persons to seek and obtain correction of information maintained and disseminated by Ex-Im Bank that does not comply with standards set out in the Agency-wide Guidelines.

Ex-Im Bank is an independent U.S. Government agency that helps finance the overseas sales of U.S. goods and services. In 65 years, Ex-Im Bank has supported more than $300 billion in U.S. exports. Ex-Im Bank's mission is to create jobs through exports. It provides guarantees of working capital loans for U.S. exporters, guarantees the repayment of commercial export loans, or makes loans to foreign purchasers of U.S. goods and services. Ex-Im Bank also provides credit insurance that protects U.S. exporters against the risks of non-payment by foreign buyers for political or commercial reasons. Ex-Im Bank does not compete with commercial lenders, but assumes the risks they cannot accept. Ex-Im Bank must always conclude that there is reasonable assurance of repayment on every transaction financed. Ex-Im Bank takes pride in the quality, objectivity, utility, and integrity of hte information that it disseminates to the public.

1. Procedures for Ensuring and Maximizing the Quality, Objectivity, Utility, and Integrity of Information Prior to Dissemination

In Agency-wide Guidelines, “quality” is defined as a term comprising utility, objecteivity, and integrity.

(a) Objectivity of Information

(i) As defined in Section IV, below, “objecteivity” is a measure of whether disseminated information “accurate, clear, complete, and unbaised;” “utility” refers to the usefulness of the information to its intended audience. Ex-Im Bank is committed to disseminating reliable and useful information. Before disseminating information, appropriate Ex-Im Bank staff and officials will review the information.

(ii) It is the primary responsibility of the Office drafting information intended for dissemination to pursue the most knowledgeable and reliable sources reasonably available to confirm the objectivity of such information and to ensure appropriate technical and policy clearance before public dissemination. Clearance procedures will vary with the nature of the information and the manner of its dissemination.

(iii) Ex-Im seeks to achieve objectivity by using reliable sources, sound analytical and editorial techniques, and by having qualified staff prepare information products that are carefully reviewed.

(1) Use of reliable data sources

Information products disseminated by Ex-Im Bank will be based on reliable, accurate data that have been validated. Most of the information disseminated by Ex-Im Bank is based on program and administrative data files. Qualified Ex-Im Bank staff conduct ongoing reviews of the programs, producers, and services that it provides to its customers such as what they are, who is eligible, and how and where to apply for the programs to obtain the products and services. Information that is disseminated on a program, service or product is derived from data maintained by Ex-Im Bank staff responsible for that program, service or product. The review also considers the presentation of the information to ensure that it is put in the proper context and presented in a clear, complete and unbiased manner. FOIA requests are answered in accordance with FOIA requirements. Where appropriate, Ex-Im Bank identifies the source of supporting data so that the public can assess for itself the objectivity of those sources.

(2) Sound analytical techniques

Information on programs products, and services are derived from reliable sources. Ex-Im Bank's staff is knowledgeable about the data sources that are used, and sound, archival, analytical or statistical techniques are applied when appropriate. Data files incorporating external data sources are reviewed to ensure that extraction and linkage processes have been implemented correctly. Documentation in Ex-Im Bank's publication contains information on data sources including definitions and specifications of variables. Technically qualified staff reviews all analytical reports and policy studies to ensure that analysis is valid, complete, unbiased, objective, and relevant.

(3) Editorial review for accuracy and clarity of information in publications

All information on programs, products, and services are edited and proofread before release to ensure clarity and coherence of the final report. Text is edited to ensure that the product is easy to read and grammatically correct, thoughts flow logically, and information is worded concisely and clearly. Tables and charts are edited so that they clearly and accurately illustrate and support points made in the text and include concise but descriptive titles. Appropriate Ex-Im Bank staff reviews and approves all changes made.

(4) Policy for correcting errors

If an error is detected before information is disseminated, it is corrected or a correction notice is given. If information has already been disseminated, it is corrected and/or an amendment is provided. The Ex-Im Bank division that originally issued an information product on the web site tracks and records any correction to it. When appropriate, correction notices and the corrected information itself are posted on our web site.

(b) Utility of Information

Utility involves the usefulness of the information to its intended users, including the public. Ex-Im Bank is committed to maximizing the utility of the information it disseminates to the public.

(i) Ex-Im Bank achieves utility by staying informed of information needs and developing new information sources by revising existing methods. Ex-Im Bank keeps abreast of information needs by convening and attending conferences and seminars, conducting user surveys, working with advisory committees, and responding to inquiries from exporters, potential foreign borrowers, bankers, academia, Congress, other US government agencies, and the press. Contact information is available, where appropriate on a variety of information products to allow for questions, comments, and suggestions from users.

(ii) The User's Guide, the web site, and other information products are reviewed to ensure that they remain relevant and address current information needs. Information products are revised frequently, new products are introduced, and some products are discontinued based on internal product reviews and consultations with users. To the extent practicable information products are disseminated in the format or formats that make the information most useful and accessible to the users. These documents are available on the Ex-Im Bank website, and the electronic versions can be accessed and downloaded directly. All documents posted on the Ex-Im Bank web site are in compliance with section 508 and are therefore available to an audience that includes persons who have a visual impairment and who read online using assistive technology.

(c) Integrity of Information

Integrity refers to security of information—protection of the information from unauthorized access or revision, to ensure that the information is not compromised.

(i) To ensure the integrity of its administrative information, Ex-Im Bank has in place rigorous controls that have been identified as representing sound security practices, and which are reviewed by Em-Im Bank's outside auditor. Ex-Im Bank administers financial and product programs that touch the operations of exporters, banks, and other government agencies. Ex-Im Bank has in place programs and policies for securing its resources as required by Governmental Information Security Reform Act (P.L. 106-398, title X, subtitle G). These security procedures address all major components of information security and apply to all Ex-Im Bank operating components.

(ii) Ex-Im Bank is subject to statutory requirements to protect the sensitive information it gathers and maintains on companies, banks, products, and services. These requirements are contained in the following documents:

• Privacy Act of 1974

• Computer Security Act of 1987

• Office of Management and Budget (OMB) Circulars A-123, A-127, and A-130

• Government Information Security Reform Act; and

• Federal Managers' Financial Integrity Act (FMFIA) of 1982

2. Requests for Correction of Information Publicly Disseminated by Ex-Im Bank

(a) Affected members of the public who believe that information disseminated by Ex-Im Bank does not comply with OMB guidelines or these agency guidelines may contact Kalesha Malloy, Office of the Chief Information Officer, Information Management & Technology Group, 811 Vermont Ave, NW., Room 763, Washington, DC 20571, by phone at (202) 565-3857, by email at kalesha.malloy@exim.gov or by fax at (202) 565-3424, to request a correction of the information. The correction request will be referred to the program unit responsible for development or maintenance for the information. The initial request should include name of requester and requester's organization, mailing address, telephone number, email address, and a brief statement of the alleged conflict with OMB or Ex-Im Bank guidelines.

(b) Ex-Im Bank will respond to requests by letter, or email. The letter or email will inform the requester whether Ex-Im Bank believes a correction is appropriate given the nature and timeliness of the information involved, and if so, will provide correction of information.

(c) A response to a request will be made within 30 calendar days after its receipt (or sooner, if it is possible to quickly resolve the request and if immediate attention is necessary due to the nature of the information).

(d) If Ex-Im Bank denies a request for correction the requester can request reconsideration at the above contact information. Requests for reconsideration shall be made within 30 days of the date of notification of action on the original request, shall include that the communication is a request for reconsideration and should include a copy of the original request.

(e) Requests for reconsideration shall be considered by Ex-Im Bank's Chief Information Officer. Ex-Im Bank will respond to the request for reconsideration in written form within 60 days.

3. Definitions

(a) “Affected” persons are those who may benefit or be harmed by the disseminated information. This includes both: (a) persons seeking to address information about themselves or about other persons to which they are related or associated; and (b) persons who use the information.

(b) “Dissemination” means agency initiated or sponsored distribution of information to the public (see 5 CFR 1320.3(d) “Conduct or Sponsor”). Dissemination does not include distributions of information or other materials that are:

(i) intended for government employees or agency contractors or grantees;

(ii) intended for U.S. Government agencies;

(iii) produced in response to requests for agency records under the Freedom of Information Act, the Privacy Act, the Federal Advisory Committee Act or similar law;

(iv) correspondence or other communication limited to individuals or to other persons, within the meaning of paragraph 7, below; or

(v) communications such as press releases, interviews, speeches, and similar statements.

(vi) Also excluded from the definition are archival records; public filings; responses to subpoenas or compulsory document productions; or documents prepared and released in the context of adjudicative processes. These guidelines do not impose any additional requirements on agencies during adjudicative proceedings any additional rights of challenge or appeal.

(c) “Influential” means disseminated information that Ex-Im Bank determines will have a clear and substantial impact on important public policies or important private sector decisions.

(d) “Information,” for purposes of these guidelines means any communication or representation of facts or data, in any medium or form, including textual, numerical, graphic, cartographic, narrative, or audiovisual forms. This definition does not include:

(i) opinions, where the presentation makes clear that the statements are subjective opinions, rather than facts. Underlying information upon which the opinion is based may be subject to these guidelines only if that information is published by Ex-Im Bank;

(ii) information originated by, and attributed to, non-Ex-Im Bank sources, Examples include: non-U.S. Government information reported and duly attributed in materials prepared and disseminated by Ex-Im Bank; hyperlinks on Ex-Im Bank's website to information that others disseminate; and information from third parties published on Ex-Im Bank's website;

(iii) statements related solely to the internal personnel rules and practices of Ex-Im Bank;

(iv) and other materials produced for Ex-Im Bank employees or contractors;

(v) descriptions of the agency, its responsibilities and its organizational components;

(vi) statements, the modification of which might cause harm to the national security, including harm to the national defense or foreign relations of the United States;

(vii) testimony or comments of Ex-Im Bank officials before courts, administrative bodies, Congress, or the media;

(viii) investigatory material compiled pursuant to U.S. law or for law enforcement purposes in the United States; or statements which are, or which reasonably may be expected to become, the subject of litigation, whether before a U.S. foreign court or in an international arbitral or other dispute resolution proceeding.

(e) “Integrity” refers to the security of information—protection of the information from unauthorized access or revision, to prevent the information from being compromised through corruption or falsification.

(f) “Objectivity” addresses whether disseminated information is being presented in an accurate, clear, complete, and unbiased manner, including background information where warranted by the circumstances.

(g) “Person” means an individual, partnership, association, corporation, business trust, or legal representative, an organized group of individuals, a regional, national, State, territorial, tribal, or local government or branch thereof, or a political subdivision of a State, territory, tribal, or local government or a branch of a political subdivision, or an international organization.

(h) “Quality” is an encompassing term comprising utility, objectivity, and integrity. Therefore, the guidelines sometimes refer these four statutory terms, collectively, as “quality”.

(i) “Utility” refers to the usefulness of the information to its intended users, including the public.

[FR Doc. 02-19498 Filed 8-1-02; 8:45 am]

BILLING CODE 6690-01-M